DEPARTMENT OF ENERGY

Federal Energy Regulatory Commission

Notice of Commissioner and Staff Attendance at North American Electric Reliability Corporation Meetings

The Federal Energy Regulatory Commission hereby gives notice that members of the Commission and/or Commission staff may attend the following meetings:

North American Electric Reliability Corporation, Member Representatives Committee and Board of Trustees Meetings, Board of Trustees Compliance Committee, Corporate Governance and Human Resources Committee, and Standards Oversight and Technology Committee Meetings.

Hotel del Coronado, 1500 Orange Avenue, Coronado, CA, 92118.

Feb. 6 (7:00 a.m.-5:00 p.m.) and Feb. 7 (8:00 a.m.-1:00 p.m.), 2013.

Further information regarding these meetings may be found at: http://www.nerc.com/calendar.php.

The discussions at the meetings, which are open to the public, may address matters at issue in the following Commission proceedings:

Docket No. RC11-5, North American Electric Reliability Corporation

Docket No. RC11-6, North American Electric Reliability Corporation

Docket No. RR08-4, North American Electric Reliability Corporation

Docket No. RR13-1, North American Electric Reliability Corporation

Docket No. RD09-11, North American Electric Reliability Corporation

Docket No. RD10-2, North American Electric Reliability Corporation

Docket No. RD12-3, North American Electric Reliability Corporation

Docket No. RD12-5, North American Electric Reliability Corporation

Docket No. RD13-1, Tri-State Generation and Transmission Association, Inc. v. Western Electric Coordinating Council and North American Electric Reliability Corporation

Docket No. RD13-2, North American Electric Reliability Corporation

Docket No. RD13-3, North American Electric Reliability Corporation

Docket No. EL13-22, PacifiCorp v. Western Electricity Coordinating Council and Los Angeles Department of Water and Power

For further information, please contact Jonathan First, 202-502-8529, or jonathan.first@ferc.gov.

Dated: January 24, 2013.
Kimberly D. Bose,
Secretary.

[FR Doc. 2013-02249 Filed 2-1-13; 8:45 am]

BILLING CODE 6717-01-P